FEDERAL FINANCIAL INSTITUTIONS EXAMINATION COUNCIL

[Docket No. FFIEC-2016-0002]

Notice of Availability of Home Mortgage Disclosure Act (HMDA) Filing Instructions Guides for HMDA Data Collected in 2017 and 2018

AGENCY: Federal Financial Institutions Examination Council (FFIEC).

ACTION: Notice of availability.

SUMMARY: The FFIEC announces the availability of the Filing Instructions Guide (FIG) for Home Mortgage Disclosure Act (HMDA) data collected in 2017 and the Filing Instructions Guide for Home Mortgage Disclosure Act data collected in 2018. The FIGs provide a compendium of resources to help covered financial institutions file with the Bureau of Consumer Financial Protection (Bureau) HMDA data collected in 2017 and 2018.

ADDRESSES: The FIGs for HMDA data collected in 2017 and 2018 are available for download on the Bureau's Web site at http://www.consumerfinance.gov/hmda. These materials are also accessible from the FFIEC's Web site at http://www.ffiec.gov/hmda.

FOR FURTHER INFORMATION CONTACT: Michael Byrne, hmdahelp@cfpb.gov or (855) 438-2372.

SUPPLEMENTARY INFORMATION: The FFIEC ¹ is publishing this notice of availability to inform the public of the availability of the FIG for HMDA data collected in 2017 and the FIG for HMDA data collected in 2018. Each filing instructions guide is a compendium of resources to help covered financial institutions file with the Bureau HMDA data collected in 2017 and 2018.

¹ The FFIEC, established in 1979, is an interagency body empowered to prescribe uniform principles and standards for the Federal examination of financial institutions and to make recommendations to promote uniformity in the supervision of such institutions. See 12 U.S.C. 3301.

Beginning with HMDA data collected in 2017, responsibility for receiving and processing HMDA data will transfer from the Federal Reserve Board (Board) to the Bureau. The member agencies of the FFIEC—the Bureau, the Office of the Comptroller of the Currency (OCC), the Federal Deposit Insurance Corporation (FDIC), the Board, and the National Credit Union Administration (NCUA)—as well as the Department of Housing and Urban Development (HUD), have agreed that, for HMDA data collected in or after 2017, filing data with the Bureau will be deemed data submission to the appropriate Federal agency.

The FIGs for HMDA data collected in 2017 and 2018 provide summaries of changes to the submission processes for filing with the Bureau. The FIGs also include file specifications, which provide information regarding, for example, valid values, how to format loan/application registers, and how to file HMDA data collected in 2017 and 2018 with the Bureau. The 2018 FIG includes data specifications with instructions on entering data in the loan/application register for HMDA data collected in 2018. The 2017 FIG includes edit specifications, which list the edits that financial institutions must clear on HMDA data before filing it with the Bureau. The 2018 FIG notes that edit specifications for data collected in 2018 will be provided at a later date.

[End of proposed text.]

Dated: July 18, 2016.
Federal Financial Institutions Examination Council.
Judith E. Dupre,
FFIEC Executive Secretary.

[FR Doc. 2016-17234 Filed 7-20-16; 8:45 am]

BILLING CODE 7535-01-P; 6714-01-P; 6210-01-P; 4810-33-P; 4810-AM-P